DEPARTMENT OF TRANSPORTATION

Federal Aviation Administration

14 CFR Part 39

[Docket No. FAA-2005-22813; Directorate Identifier 2002-NM-117-AD]

RIN 2120-AA64

Airworthiness Directives; AvCraft Dornier Model 328-100 Airplanes

AGENCY: Federal Aviation Administration (FAA), Department of Transportation (DOT).

ACTION: Notice of proposed rulemaking (NPRM).

SUMMARY: The FAA proposes to revise an existing airworthiness directive (AD) that applies to all AvCraft Dornier Model 328-100 airplanes. The existing AD currently requires revising the Airplane Flight Manual (AFM) to provide the flightcrew with additional information regarding procedures to ensure complete pressurization of the hydraulic lines for the flaps. The existing AD also requires, for certain airplanes, modification of the flap actuators of the flight controls. This proposed AD would allow the removal of the AFM revisions after modifying the flap actuators of the flight controls. This proposed AD results from the determination that the AFM revisions are not necessary after modifying the flap actuators of the flight controls. We are proposing this AD to prevent an uncommanded retraction of the flaps during takeoff, which could result in an aborted takeoff and consequent potential for runway overrun.

DATES: We must receive comments on this proposed AD by December 1, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact AvCraft Aerospace GmbH, P.O. Box 1103, D-82230 Wessling, Germany, for service information identified in this proposed AD.

FOR FURTHER INFORMATION CONTACT: Rosanne Ryburn, Aerospace Engineer, International Branch, ANM-116, FAA, Transport Airplane Directorate, 1601 Lind Avenue, SW., Renton, Washington 98055-4056; telephone (425) 227-2139; fax (425) 227-1149.

SUPPLEMENTARY INFORMATION:

Comments Invited

We invite you to submit any relevant written data, views, or arguments regarding this proposed AD. Send your comments to an address listed in the ADDRESSES section. Include the docket number “Docket No. FAA-2005-22813; Directorate Identifier 2002-NM-117-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in a docket, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On November 20, 2000, we issued AD 2000-24-03, amendment 39-12010 (65 FR 75601, December 4, 2000), for all Dornier Model 328-100 series airplanes. That AD requires revising the Airplane Flight Manual (AFM) to provide the flightcrew with additional information regarding procedures to ensure complete pressurization of the hydraulic lines for the flaps. That AD also requires, for certain airplanes, modification of the flap actuators of the flight controls. That AD resulted from the development of a hardware modification to install a locking collar and locking sleeve at the actuator cylinder. We issued that AD to prevent an uncommanded retraction of the flaps during takeoff, which could result in an aborted takeoff and consequent potential for runway overrun.

Actions Since Existing AD Was Issued

Since we issued AD 2000-24-03, we determined that the AFM revisions are not necessary after modifying the flap actuators of the flight controls. The modification specified in paragraph (c) of that AD is currently written as an additional requirement for certain airplanes to the revisions specified in paragraphs (a) and (b) of the AD. The modification specified in paragraph (c) of that AD is intended to be a terminating action for the revisions specified in paragraphs (a) and (b) of the AD.

FAA's Determination and Requirements of the Proposed AD

This airplane model is manufactured in Germany and is type certificated for operation in the United States under the provisions of section 21.29 of the Federal Aviation Regulations (14 CFR 21.29) and the applicable bilateral airworthiness agreement. We have determined that AD action is necessary for airplanes of this type design that are certificated for operation in the United States.

This proposed AD would revise AD 2000-24-03 and would retain the requirements of the existing AD. This proposed AD would also allow operators to remove the AFM revisions inserted according to paragraphs (a) and (b) of that AD after operators modified the flap actuators of the flight controls according to paragraph (c) of that AD.

Change to Existing AD

This proposed AD would retain all requirements of AD 2000-24-03. Since AD 2000-24-03 was issued, the AD format has been revised, and certain paragraphs have been rearranged. As a result, the corresponding paragraph identifiers have changed in this proposed AD, as listed in the following table:

Revised Paragraph Identifiers
Requirement in AD 2000-24-03 | Corresponding requirement in this proposed AD
Paragraph (a) | Paragraph (f).
Paragraph (b) | Paragraph (g).
Paragraph (c) | Paragraph (h).

Explanation of Change to Applicability

We have revised the applicability of the existing AD to identify model designations as published in the most recent type certificate data sheet for the affected models.

Clarification of Alternative Method of Compliance (AMOC) Paragraph

We have revised this action to clarify the appropriate procedure for notifying the principal inspector before using any approved AMOC on any airplane to which the AMOC applies.

Costs of Compliance

We estimate that 52 airplanes of U.S. registry would be affected by this AD.

The AFM revision that is currently required by AD 2000-24-03, and retained in this proposed AD, takes approximately 1 work hour per airplane to accomplish, at an average labor rate of $65 per work hour. Based on these figures, the cost impact of the currently required AFM revision on U.S. operators is approximately $3,380, or $65 per airplane.

The modification that is currently required by AD 2000-24-03 and retained in this proposed AD, takes approximately 4 work hours per airplane to accomplish, at an average labor rate of $65 per work hour. Required parts will be provided by the manufacturer at no cost to the operators. Based on these figures, the cost impact of the currently required modification on U.S. operators is estimated to be $260 per airplane.

The removal of the AFM revisions that is specified in this proposed AD, if done, takes approximately 1 work hour per airplane to accomplish, at an average labor rate of $65 per work hour. Based on these figures, the cost impact of the proposed removal of AFM revisions on U.S. operators is approximately $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12010 (65 FR 75601, December 4, 2000) and adding the following new airworthiness directive (AD):

AvCraft Aerospace GmbH (Formerly Fairchild Dornier GmbH): Docket No. FAA-2005-22813; Directorate Identifier 2002-NM-117-AD.

Comments Due Date

(a) The FAA must receive comments on this AD action by December 1, 2005.

Affected ADs

(b) This AD revises AD 2000-24-03.

Applicability

(c) This AD applies to all AvCraft Dornier Model 328-100 airplanes, certificated in any category.

Unsafe Condition

(d) This AD results from the determination that certain Airplane Flight Manual (AFM) revisions are not necessary after modifying the flap actuators of the flight controls. We are issuing this AD to prevent an uncommanded retraction of the flaps during takeoff, which could result in an aborted takeoff and consequent potential for runway overrun.

Compliance

(e) You are responsible for having the actions required by this AD performed within the compliance times specified, unless the actions have already been done.

Airplane Flight Manual (AFM) Revision

(f) Within 14 days after November 12, 1998 (the effective date of AD 98-22-07, amendment 39-10854), accomplish the requirements of paragraphs (f)(1) and (f)(2) of this AD.

(1) Revise the Normal Procedures Section of the Dornier 328 FAA-approved AFM to include the information specified in pages 6 and 7 of Dornier 328 All Operators Telefax (AOT) AOT-328-27-016, dated July 31, 1998. This may be accomplished by inserting a copy of pages 6 and 7 of the AOT into the AFM.

(2) Revise the Abnormal Procedures Section of the Dornier 328 FAA-approved AFM to include the information specified in page 4 of Dornier 328 AOT-328-27-016, dated July 31, 1998. This may be accomplished by inserting a copy of page 4 of the AOT into the AFM.

New AFM Revision

(g) For all airplanes: Within 3 days after January 8, 2001 (the effective date of AD 2000-24-03), revise the Dornier 328 FAA-approved AFM as specified in paragraphs (g)(1) and (g)(2) of this AD. Concurrently with this AFM revision, remove the AFM revisions required by paragraph (f) of this AD from the AFM.

(1) Revise the Normal Procedures Section to include the information specified in pages 4, 5, and 6 of Dornier 328 AOT-328-27-016, Revision 1, dated October 28, 1998. This may be accomplished by inserting a copy of pages 4, 5, and 6 of the AOT into the AFM.

(2) Revise the Abnormal Procedures Section to include the information specified in page 3 of Dornier 328 AOT-328-27-016, Revision 1, dated October 28, 1998. This may be accomplished by inserting a copy of page 3 of the AOT into the AFM.

Modification

(h) For airplanes with serial numbers 3005 through 3099 inclusive, 3101 through 3108 inclusive, and 3110 through 3119 inclusive: Within 5 months after January 8, 2001, modify the flap actuators of the flight controls, in accordance with Dornier 328 Service Bulletin SB-328-27-293, dated November 10, 1999. After accomplishing the modification, operators may remove the AFM revisions required by paragraphs (f) and (g) of this AD from the AFM.

Note 1: The Dornier service bulletin references Liebherr Aerospace Service Bulletin 1048A-27-02, dated November 9, 1999, as an additional source of service information for accomplishing the modification of the flap actuators of the flight controls.

Alternative Methods of Compliance (AMOCs)

(i)(1) The Manager, International Branch, ANM-116, FAA, Transport Airplane Directorate, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously in accordance with AD 98-22-07, amendment 39-10854, are approved as AMOCs with paragraph (f) of this AD.

(4) AMOCs approved previously in accordance with AD 2000-24-03, amendment 39-12010, are approved as AMOCs with this AD.

Related Information

(j) German airworthiness directive 1998-359/3, dated April 6, 2000, also addresses the subject of this AD.

Issued in Renton, Washington, on October 20, 2005.
Kalene C. Yanamura,
Acting Manager, Transport Airplane Directorate, Aircraft Certification Service.

[FR Doc. 05-21697 Filed 10-31-05; 8:45 am]

BILLING CODE 4910-13-P